DEPARTMENT OF EDUCATION

Improving Literacy through School Libraries Program

AGENCY: Office of Elementary and Secondary Education, Department of Education.

ACTION: Notice of final priority.

SUMMARY: The Deputy Secretary of Education announces a priority under the Improving Literacy Through School Libraries Program. The Deputy Secretary may use this priority for competitions in fiscal year (FY) 2007 and later years. We take this action to allow for the best use of Federal funding to improve school library media centers in low-income communities. We intend for this priority to help strengthen the connection between school libraries and the instructional programs in these schools and districts.

EFFECTIVE DATE: This priority is effective March 19, 2007.

FOR FURTHER INFORMATION CONTACT: Irene Harwarth, U.S. Department of Education, 400 Maryland Avenue, SW., room 3W227, Washington, DC 20202-6200. Telephone: (202) 401-3751 or via Internet: Irene.Harwarth@ed.gov.

If you use a telecommunications device for the deaf (TDD), you may call the Federal Relay Service (FRS) at 1-800-877-8339.

Individuals with disabilities may obtain this document in an alternative format (e.g., Braille, large print, audiotape, or computer diskette) on request to the contact person listed under FOR FURTHER INFORMATION CONTACT.

SUPPLEMENTARY INFORMATION: The purpose of the Improving Literacy Through School Libraries Program (LSL) is to improve student reading skills and academic achievement by providing students with increased access to up-to-date school library materials; well-equipped, technologically advanced school library media centers; and well-trained, professionally certified school library media specialists. Entities eligible for funding are local educational agencies (LEAs) in which 20 percent of the students served by the LEA are from families with incomes below the poverty line. These entities include public school districts, and may also include charter schools, regional service agencies, and State-administered schools that are considered public school districts by their State educational agency. Grantees use this funding to update their school library media center collections, improve technology and Internet access for their school library media centers, extend the hours of their school library media centers, and provide professional development for school library media specialists.

The LSL program has been in existence for four years. Over this four-year period, we have found that the most successful projects are similar in the following two ways: (1) They have provided a comprehensive array of services (such as extended library hours and professional development in addition to updated book collections and improved technology and internet access); and (2) they have had significant support from principals, teachers, and parents. Based on what we know to be successful practice, we sought to establish a priority that more closely links the proposed project to the school and district through alignment with a school or district improvement plan. We also intended this priority to encourage applicants to offer a comprehensive array of allowable program services.

We published a notice of proposed priority for this program in the Federal Register on December 20, 2006 (71 FR 76280).

There are no differences between the notice of proposed priority and this notice of final priority.

Public Comment

In the notice of proposed priority, we invited comments on the proposed priority. Four of the only substantive comments we received suggested changes the law does not authorize us to make under the applicable statutory authority. Of the remaining two substantive comments, one commenter suggested encouraging individuals from local speaking and drama organizations to come to school libraries to read to children. An additional commenter, while supportive of the priority, asked for bonus points for districts that have applied and been unsuccessful in past competitions. Program officials decided that it would not be beneficial to the competition to incorporate these ideas at this time, and therefore no changes have been made to the priority.

Note: This notice does not solicit applications. In any year in which we choose to use this priority, we invite applications through a notice in the Federal Register. When inviting applications we designate the priority as absolute, competitive preference, or invitational. The effect of each type of priority follows:

Absolute priority: Under an absolute priority we consider only applications that meet the priority (34 CFR 75.105(c)(3)).

Competitive preference priority: Under a competitive preference priority we give competitive preference to an application by either (1) Awarding additional points, depending on how well or the extent to which the application meets the competitive priority (34 CFR 75.105(c)(2)(i)); or (2) selecting an application that meets the competitive priority over an application of comparable merit that does not meet the priority (34 CFR 75.105(c)(2)(ii)).

Invitational priority: Under an invitational priority we are particularly interested in applications that meet the invitational priority. However, we do not give an application that meets the invitational priority a competitive or absolute preference over other applications (34 CFR 75.105(c)(1)).

Priority: Under this priority, we give priority to projects that demonstrate in their grant applications that the proposed literacy project services are comprehensive and aligned with a school or district improvement plan. A school improvement plan may include the required two-year plan (under section 1116(b)(3) of the Elementary and Secondary Education Act of 1965, as amended by the No Child Left Behind Act of 2001) that addresses the academic issues that caused a school to be identified as in need of improvement. The plan could also include a voluntary plan developed by the school or district to improve academic achievement. The applicant must clearly describe the improvement plan that is in place, whether it is for the school or the entire district, the reasons why the plan was put in place, and how the proposed project and the operation of the school library media center will directly support the academic goals established in the improvement plan.

Executive Order 12866

This notice of final priority has been reviewed in accordance with Executive Order 12866. Under the terms of the order, we have assessed the potential costs and benefits of this regulatory action.

The potential costs associated with the notice of final priority are those resulting from statutory requirements and those we have determined as necessary for administering this program effectively and efficiently.

In assessing the potential costs and benefits—both quantitative and qualitative—of this notice of final priority, we have determined that the benefits of the final priority justify the costs.

We have also determined that this regulatory action does not unduly interfere with State, local, and tribal governments in the exercise of their governmental functions.

We fully discussed the costs and benefits in the notice of proposed priority.

Intergovernmental Review

This program is subject to Executive Order 12372 and the regulations in 34 CFR part 79. One of the objectives of the Executive order is to foster an intergovernmental partnership and a strengthened federalism. The Executive order relies on processes developed by State and local governments for coordination and review of proposed Federal financial assistance.

This document provides early notification of our specific plans and actions for this program.

Electronic Access to This Document

You may view this document, as well as all other Department of Education documents published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

You may also view this document in text at the following site: http://www.ed.gov/programs/lsl.

Note: The official version of this document is the document published in the Federal Register. Free Internet access to the official edition of the Federal Register and the Code of Federal Regulations is available on GPO Access at: http://www.gpoaccess.gov/nara/index.html.

(Catalog of Federal Domestic Assistance Number 84.364A Improving Literacy through School Libraries Program)

Program Authority: 20 U.S.C. 6383.

Dated: February 13, 2007.
Raymond Simon,
Deputy Secretary of Education.

[FR Doc. E7-2822 Filed 2-15-07; 8:45 am]

BILLING CODE 4000-01-P